OFFICE OF PERSONNEL MANAGEMENT

5 CFR Part 532

RIN 3206-AM50

Prevailing Rate Systems; Redefinition of the Austin, TX and Waco, TX, Appropriated Fund Federal Wage System Wage Areas

AGENCY: U.S. Office of Personnel Management.

ACTION: Final rule.

SUMMARY: The U.S. Office of Personnel Management is issuing a final rule to redefine the geographic boundaries of the Austin, TX, and Waco, TX, appropriated fund Federal Wage System (FWS) wage areas. The final rule redefines Burleson and Lampasas Counties, TX, from the Austin wage area to the Waco wage area. These changes are based on recent consensus recommendations of the Federal Prevailing Rate Advisory Committee to best match the counties proposed for redefinition to a nearby FWS survey area. This final rule makes an additional correction to add the entire Syracuse-Utica-Rome, NY, wage area to Appendix C to Subpart B of Part 532—Appropriated Fund Wage and Survey Areas, which was inadvertently deleted when the CFR was published in January 2004.

DATES: This regulation is effective on May 2, 2012.

FOR FURTHER INFORMATION CONTACT: Madeline Gonzalez, (202) 606-2838; email pay-performance-policy@opm.gov; or Fax: (202) 606-4264.

SUPPLEMENTARY INFORMATION: On November 14, 2011, the U.S. Office of Personnel Management (OPM) issued a proposed rule (76 FR 70365) to redefine Burleson and Lampasas Counties, TX, from the Austin wage area to the Waco wage area. These changes are based on recent consensus recommendations of the Federal Prevailing Rate Advisory Committee (FPRAC) to best match the above counties to a nearby FWS survey area. FPRAC did not recommend other changes for the Austin and Waco wage areas at this time. In addition, this final rule adds the entire Syracuse-Utica-Rome, NY, FWS wage area to Appendix C to Subpart B of Part 532—Appropriated Fund Wage and Survey Areas. The Syracuse-Utica-Rome wage area was inadvertently deleted when the CFR was published in January 2004. This correction does not affect the pay of any FWS employees. The proposed rule had a 30-day comment period during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended for the State of New York by adding “Syracuse-Utica-Rome” and its constituent counties after “Rochester” and revising for the State of Texas the wage area listings of the Austin, TX, and Waco, TX, wage areas to read as follows:

Appendix C to Subpart B of Part 532—Appropriated Fund Wage and Survey Areas

* * * * *
NEW YORK
* * * * *
Syracuse-Utica-Rome
Survey Area
New York:
Herkimer
Madison
Oneida
Onondaga
Oswego
* * * * *
Area of Application. Survey area plus:
New York:
Broome
Cayuga
Chenango
Cortland
Hamilton
Otsego
Tioga
Tompkins
* * * * *
TEXAS
Austin
Survey Area
Texas:
Hays
Milam
Travis
Williamson
Area of Application. Survey area plus:
Texas:
Bastrop
Blanco
Burnet
Caldwell
Fayette
Lee
Llano
Mason
San Saba
* * * * *
Waco
Survey Area
Texas:
Bell
Coryell
McLennan
Area of Application. Survey area plus:
Texas:
Anderson
Bosque
Brazos
Burleson
Falls
Freestone
Hamilton
Hill
Lampasas
Leon
Limestone
Mills
Robertson
* * * * *

[FR Doc. 2012-7728 Filed 3-30-12; 8:45 am]

BILLING CODE 6325-39-P